DEPARTMENT OF AGRICULTURE

Forest Service

Superior Resource Advisory Committee

AGENCY: Forest Service, USDA.

ACTION: Notice of meeting.

SUMMARY: The Superior Resource Advisory Committee will meet in Duluth, Minnesota. The committee is meeting as authorized under the Secure Rural Schools and Community Self-Determination Act (Pub. L. 110-343) and in compliance with the Federal Advisory Committee Act. The purpose of the meeting is to orient the new Superior Resource Advisory Committee members on their roles and responsibilities.

DATES: The meeting will be held on Friday, June 11, 2010, 9:45 a.m.

ADDRESSES: The meeting will he held at the Superior National Forest Headquarters, 8901 Grand Ave Place, Duluth, MN 55808. Written comments should be sent to Superior National Forest, RAC, 8901 Grand Ave Place, Duluth, MN 55808. Comments may also be sent via e-mail to Lradosevichcraig@fs.fed.us, or via facsimile to 218-626-4312.

All comments, including names and addresses when provided, are placed in the record and are available for public inspection and copying. The public may inspect comments received at Superior National Forest Headquarters. This meeting is open to the public. Visitors are encouraged to call ahead to 218-626-4300 to facilitate entry into the building.

FOR FURTHER INFORMATION CONTACT: Lisa Radosevich-Craig, Partnership Coordinator & Tribal Liaison, Superior National Forest Headquarters, 218-626-4336, Lradosevichcraig@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Overview of the roles and responsibilities of the Superior Resource Advisory Committee members; Election of officers, Development of rules and operational guidelines; Overview of the history and uses of the Superior National Forest; Public forum on submitting project proposals. The agenda and any applicable documents may be previewed at http://WWW.fs.fed.us/R9/superior. Persons who wish to bring related matters to the attention of the Committee may file written statements with the Committee staff before or after the meeting. A public input session will be provided and individuals who made written requests by Monday, June 7, 2010 will have the opportunity to address the Comittee at those sessions.

Dated: May 14, 2010.
James Sanders,
Forest Supervisor, Superior National Forest, Duluth, Minnesota.

[FR Doc. 2010-12089 Filed 5-20-10; 8:45 am]

BILLING CODE 3410-11-M